DEPARTMENT OF COMMERCE

National Oceanic and Atmospheric Administration

RIN 0648-XA663

Pacific Fishery Management Council; Public Meeting

AGENCY: National Marine Fisheries Service (NMFS), National Oceanic and Atmospheric Administration (NOAA), Commerce.

ACTION: Notice of public meeting.

SUMMARY: The Pacific Fishery Management Council (Pacific Council) will convene a meeting of the Stock Assessment Review (STAR) Panel, to consider and review the 2011 Pacific sardine stock assessment.

DATES: The meeting will take place from Tuesday, October 4 through Friday, October 7, 2011. The meeting will begin at 10 a.m. on October 4, and will begin at 8 a.m. each subsequent day. The meeting will continue until 5 p.m. each day or until business for the day has been completed. The meeting may adjourn early on Friday, October 7, if sufficient progress has been achieved.

ADDRESSES: The meeting will be held in the Green Room of the National Marine Fisheries Service's Southwest Fisheries Science Center; 8604 La Jolla Shores Drive, La Jolla, CA 92037.

Council address: Pacific Fishery Management Council, 7700 NE Ambassador Place, Suite 101, Portland, OR 97220-1384.

FOR FURTHER INFORMATION CONTACT: Mr. Kerry Griffin, Staff Officer, Pacific Council: (503) 820-2280.

SUPPLEMENTARY INFORMATION: The purpose of the meeting is to review the 2011 stock assessment for Pacific sardine, which will be used to develop management measures for the 2012 sardine fishery off the U.S. west coast.

Although non-emergency issues not contained in the meeting agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Mr. Kris Kleinschmidt at (503) 820-2280 at least 5 days prior to the meeting date.

Dated: August 25, 2011.
Tracey L. Thompson,
Acting Director, Office of Sustainable Fisheries, National Marine Fisheries Service.

[FR Doc. 2011-22193 Filed 8-30-11; 8:45 am]

BILLING CODE 3510-22-P